DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Associated Form, and OMB Number: Army ROTC Referral Information; ROTC CDT CMD Form 155-R; OMB Number 0702-[To Be Determined].

Type of Request: New Collection.

Number of Respondents: 16,300.

Responses per Respondent: 1.

Annual Responses: 16,300.

Average Burden per response: 15 minutes.

Annual Burden Hours: 4,075.

Needs and Uses: The Army ROTC Program produces approximately 75 percent of the newly commissioned officers for the U.S. Army. Army ROTC must have the ability to attract quality men and women who will pursue college degrees. Currently, there are 13 Recruiting Teams (Goldminers) located in various places across the United States aiding in this effort. Their mission is to refer quality high school students to college and universities offering Army ROTC. Goldminers, two officer personnel, will collect ROTC referral information at a high school campus and document it on ROTC Cadet Command Form 155-R. The purpose of the information is to provide prospect referral data to a Professor of Military Science to contact individuals who have expressed an interest in Army ROTC.

Affected Public: Individual or households.

Frequency: On occasion.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 12, 2000.
Patrica L. Toppings,
Alternate OSD Federal Register Laison Officer, Department of Defense.

[FR Doc. 00-1306 Filed 1-19-00; 8:45 am]

BILLING CODE 5001-10-M